ENVIRONMENTAL PROTECTION AGENCY

40 CFR Part 372

[EPA-HQ-TRI-2016-0390; FRL-9959-41]

RIN 2070-AK16

Addition of Natural Gas Processing Facilities to the Toxics Release Inventory (TRI); Extension of Comment Period

AGENCY: Environmental Protection Agency (EPA).

ACTION: Proposed rule; extension of comment period.

SUMMARY: EPA issued a proposed rule in the Federal Register of Friday, January 6, 2017, concerning the Agency's addition of natural gas processing facilities to the Toxics Release Inventory (TRI). This document extends the comment period for 60 days, from March 7, 2017 to May 6, 2017. This action is in response to stakeholders' requests to extend the comment period.

DATES: The comment period on the proposed rule published January 6, 2016 (82 FR 1651, identified by docket identification (ID) number EPA-HQ-TRI-2016-0390, is extended to May 6, 2017.

ADDRESSES: Follow the detailed instructions provided under ADDRESSES in the Federal Register document of January 6, 2017 (82 FR 1651) (FRL-9953-68).

FOR FURTHER INFORMATION CONTACT:

For technical information contact: Kara Koehrn, Toxics Release Inventory Program Division, Office of Pollution Prevention and Toxics, Environmental Protection Agency, 1200 Pennsylvania Ave. NW., Washington, DC 20460-0001; telephone number: 202-566-0310; email address: koehrn.kara@epa.gov.

For general information contact: The Emergency Planning and Community Right-to-Know Hotline; telephone numbers: toll free at (800) 424-9346 (select menu option 3) or (703) 412-9810 in the Washington, DC Area and International; or toll free, TDD (800) 553-7672; or go to https://www.epa.gov/home/epa-hotlines#HotlinesServiceLines4SpecificTopics.

SUPPLEMENTARY INFORMATION: This document extends the public comment period established in the Federal Register document of January 6, 2017. In that document, the Agency proposes to add natural gas processing facilities to TRI. EPA is hereby extending the comment period, which was set to end on March 7, 2017, to May 6, 2017.

To submit comments, or access the docket, please follow the detailed instructions provided under ADDRESSES in the Federal Register document of January 6, 2017. If you have questions, consult the technical person listed under FOR FURTHER INFORMATION CONTACT.

List of Subjects in 40 CFR Part 372

Environmental protection, Community right-to-know, Reporting and recordkeeping requirements, and Toxic chemicals.

Dated: February 23, 2017.
Wendy C. Hamnett,
Acting Assistant Administrator, Office of Chemical Safety and Pollution Prevention.

[FR Doc. 2017-04313 Filed 3-7-17; 8:45 am]

BILLING CODE 6560-50-P